DEPARTMENT OF ENERGY

Federal Energy Regulatory Commission

[Docket No. EL02-58-000]

Public Service Company of New Mexico, Complainant, v. Arizona Public Service Company, Respondent; Notice of Complaint

February 20, 2002.

Take notice that on February 15, 2002, Public Service Company of New Mexico, 2401 Aztec Road, NE., Albuquerque, New Mexico, 87107 filed with the Federal Energy Regulatory Commission a complaint against Arizona Public Service Company (“APS”) regarding APS' rejection of PNM's attempts to exercise rights of first refusal related to two separate long-term point-to-point transmission service agreements on APS' transmission system.

Any person desiring to be heard or to protest this filing should file a motion to intervene or protest with the Federal Energy Regulatory Commission, 888 First Street, NE, Washington, DC 20426, in accordance with Rules 211 and 214 of the Commission's Rules of Practice and Procedure (18 CFR 385.211 and 385.214). All such motions or protests must be filed on or before March 7, 2002. Protests will be considered by the Commission in determining the appropriate action to be taken, but will not serve to make protestants parties to the proceeding. Any person wishing to become a party must file a motion to intervene. Answers to the complaint shall also be due on or before March 7, 2002. Copies of this filing are on file with the Commission and are available for public inspection. This filing may also be viewed on the web at http://www.ferc.gov using the “RIMS” link, select “Docket#” and follow the instructions (call 202-208-2222 for assistance). Comments, protests, interventions and answers may be filed electronically via the Internet in lieu of paper. See, 18 CFR 385.2001(a)(1)(iii) and the instructions on the Commission's web site under the “e-Filing” link.

Magalie R. Salas,
Secretary.

[FR Doc. 02-4567 Filed 2-26-02; 8:45 am]

BILLING CODE 6717-01-P